DEPARTMENT OF ENERGY

Federal Energy Regulatory Commission

[Docket No. RM07-10-000]

Transparency Provisions of Section 23 of the Natural Gas Act; Notice of Availability and eFiling Guidelines for FERC Form No. 552

Issued March 4, 2009.

Take notice that pursuant to the requirements of Order No. 704,¹ issued December 26, 2007, and Order 704-A,² issued September 18, 2008, the Commission is issuing the form, instructions, and submission guidelines for FERC Form No. 552, Annual Report of Natural Gas Transactions. The Form No. 552 report for Calendar Year 2008 is due on or before May 1, 2009.

¹ Transparency Provisions of Section 23 of the Natural Gas Act, Order No. 704, FERC Stats. & Regs. ¶ 31,260 (2007) (Final Rule).

² Transparency Provisions of Section 23 of the Natural Gas Act, Order No. 704-A, FERC Stats. & Regs. ¶ 31,275 (2008).

Persons required to submit Form No. 552 should download the form-fillable PDF form from the Commission's Web site at http://www.ferc.gov/docs-filing/eforms.asp#552. This link also contains a list of Frequently Asked Questions and contact information for questions regarding completion of the form. The PDF form contains edit checks to assist the filer in submitting complete information.

Once completed and saved, the PDF version of Form No. 552 PDF can be submitted via the Commission's electronic filing system at http://www.ferc.gov/docs-filing/efiling.asp. After logging into the eFiling system, filers must make the following selections from the eFiling Menu: ³

³ During the eFiling process there are additional edit checks. All edit check issues must be resolved before the filer can upload the Form No. 552 and complete the submission.

Col. 1: Gas

Col. 2: Report/Form—No Docket Number

Col. 3: Form 552

Persons needing assistance or experiencing difficulty with eFiling should contact FERCOnlineSupport@ferc.gov, or call 1-866-208-3676 (toll free). Be mindful that FERC Online Support cannot address content issues. Please e-mail content related form issues to form552@ferc.gov or contact Michelle Reaux at phone number 202-502-6497.

Kimberly D. Bose,
Secretary.

[FR Doc. E9-5254 Filed 3-11-09; 8:45 am]

BILLING CODE 6717-01-P